DEPARTMENT OF JUSTICE

[OMB Number 1105-0008]

Agency Information Collection Activities; Proposed eCollection eComments Requested; Extension of a Previously Approved Collection; Claim for Damage, Injury, or Death

AGENCY: Civil Division, Department of Justice.

ACTION: 30-Day notice.

SUMMARY: The Civil Division, Department of Justice (DOJ), will be submitting the following information collection request to the Office of Management and Budget (OMB) for review and approval in accordance with the Paperwork Reduction Act of 1995.

DATES: Comments are encouraged and will be accepted for 30 days until February 17, 2026.

FOR FURTHER INFORMATION CONTACT: If you have additional comments, especially on the estimated public burden or associated response time, suggestions, or need a copy of the proposed information collection instrument with instructions or additional information, please contact Jason C. Bougere, U.S. Department of Justice, P.O. Box 146, Ben Franklin Station, Washington DC 20044-0146 at email Jason.C.Bougere@usdoj.gov or phone (202) 307-2737.

SUPPLEMENTARY INFORMATION: The proposed information collection was previously published in the Federal Register on December 15, 2025, 90 FR 58058, allowing a 60-day comment period. Written comments and suggestions from the public and affected agencies concerning the proposed collection of information are encouraged. Your comments should address one or more of the following four points:

—Evaluate whether the proposed collection of information is necessary for the proper performance of the functions of the agency, including whether the information will, have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1105-0008. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a currently approved collection.

2. The Title of the Form/Collection: Claim for Damage, Injury, or Death.

3. The agency form number, if any, and the applicable component of the Department sponsoring the collection: The form number is CIV SF 95. The applicable component within the Department of Justice is the Civil Division.

4. Affected public who will be asked or required to respond, as well as a brief abstract: Primary: Individuals or households. Other: Businesses or other for-profit, Non-forprofit institutions, and State, Local, or Tribal Governments.

Abstract: This form is used by those persons making a claim against the United States Government under the Federal Tort Claims Act.

5. An estimate of the total number of respondents and the amount of time estimated for an average respondent to respond: It is estimated that there will be 100,000 respondents.

6. Estimated Time per respondent: 6 hours to respond.

7. Frequency: Once.

8. An estimate of the total public burden (in hours) associated with the collection: The total estimated annual burden hours to complete the certification form is 600,000 hours.

9. Total Estimated Annual Other Costs Burden: $0.

If additional information is required contact: Darwin Arceo, Department Clearance Officer, United States Department of Justice, Enterprise Portfolio Management, Justice Management Division, Two Constitution Square, 145 N Street NE, 4W-218, Washington, DC.

Dated: January 14, 2025.
Darwin Arceo,
Department Clearance Officer for PRA, U.S. Department of Justice.

[FR Doc. 2026-00851 Filed 1-15-26; 8:45 am]

BILLING CODE 4410-12-P